DEPARTMENT OF ENERGY

Federal Energy Regulatory Commission

[Docket Nos. CP13-73-000; CP13-74-000]

Sierrita Gas Pipeline LLC; Notice of Public Meeting for the Proposed Sierrita Pipeline Project

On June 18, 2013, the Federal Energy Regulatory Commission (FERC or Commission) Office of Energy Projects staff will hold a meeting to discuss Sierrita Gas Pipeline LLC's (Sierrita) plans for restoring the proposed Sierrita Pipeline Project right-of-way. The meeting is open to the public; however, the intent of the meeting is to provide the Altar Valley Conservation Alliance members and the landowners directly affected by the Sierrita Pipeline Project the opportunity to provide input on the design of Sierrita's restoration measures. The FERC staff will conduct this public meeting as part of its preparation of an environmental impact statement for the project. The meeting is scheduled as follows:

Date and time | Location
Tuesday, June 18, 2013, 9:00 a.m. local time | Casino Del Sol Conference Room, 5655 W Valencia Road, Tucson, AZ 85757.

All public meetings will be posted on the Commission's calendar located at www.ferc.gov/EventCalendar/EventsList.aspx along with other related information.

Additional information about the Sierrita Pipeline Project is available from the Commission's Office of External Affairs, at (866) 208-FERC, or on the FERC Web site at www.ferc.gov using the “eLibrary” link. Click on the eLibrary link, click on “General Search” and enter the docket number, excluding the last three digits, in the Docket Number field (i.e., CP13-73). Be sure you have selected an appropriate date range. For assistance, please contact FERC Online Support at FercOnlineSupport@ferc.gov or toll free at (866) 208-3676, or for TTY, contact (202) 502-8659.

Dated: May 30, 2013.
Kimberly D. Bose,
Secretary.

[FR Doc. 2013-13396 Filed 6-5-13; 8:45 am]

BILLING CODE 6717-01-P